DEPARTMENT OF HOMELAND SECURITY

Coast Guard

[Docket No. CGD08-07-045]

Area Maritime Security Committee, Louisville; Vacancies

AGENCY: Coast Guard, DHS.

ACTION: Solicitation for Membership.

SUMMARY: The Coast Guard seeks applications for membership in the Louisville Area Maritime Security Committee. The Louisville AMSC area of responsibility includes all facilities and Maritime Transportation Security (MTS) infrastructure adjacent to the waterfront on the Ohio River from the Markland Locks and Dam to the Cannelton Locks and Dam (mile marker 531.5 to 720.6) and all of the Kentucky River.

DATES: Requests for membership should reach the Captain of the Port, Ohio Valley, by December 3, 2007.

ADDRESSES: Applications for membership should be submitted to the COTP/FMSC at the following address: USCG Sector Ohio Valley, Mazzoli Federal Building, 600 Martin Luther King Place, Room 409D, Louisville, KY 40202-2242.

FOR FURTHER INFORMATION CONTACT: For questions about submitting an application or about the AMS Committee in general, contact LT Wayne Reed at 502-779-5432.

SUPPLEMENTARY INFORMATION:

The Committee

The Area Maritime Security Committee, Louisville (the Committee), is established under, and governed by, 33 CFR part 103, subpart C. The functions of the Committee include, but are not limited to, the following:

(1) Identifying critical port infrastructure and operations.

(2) Identifying risks (i.e., threats, vulnerabilities, and consequences).

(3) Determining strategies and implementation methods for mitigation.

(4) Developing and describing the process for continuously evaluating overall port security by considering consequences and vulnerabilities, how they may change over time, and what additional mitigation strategies can be applied.

(5) Advising and assisting the Captain of the Port in developing, reviewing, and updating the Area Maritime Security Plan under 33 CFR part 103, subpart E.

Positions Available on the Committee

There are 20 vacancies on the Committee. Members may be selected from—

(1) The Federal, Territorial, or Tribal government;

(2) The State government and political subdivisions of the State;

(3) Local public safety, crisis management, and emergency response agencies;

(4) Law enforcement and security organizations;

(5) Maritime industry, including labor;

(6) Other port stakeholders having a special competence in maritime security; and

(7) Port stakeholders affected by security practices and policies.

In support of the Coast Guard's policy on gender and ethnic diversity, we encourage qualified women and members of minority groups to apply.

Qualification of Members

Members must have at least 5 years of experience related to maritime or port security operations. Applicants may be required to pass an appropriate security background check before appointment to the Committee.

The term of office for each vacancy is 5 years. However, a member may serve one additional term of office. Members are not salaried or otherwise compensated for their service on the Committee.

Format of Applications

Applications for membership may be in any format. However, because members must demonstrate an interest in the security of the area covered by the Committee, we particularly encourage the submission of information highlighting experience in maritime or security matters.

Authority: Section 102 of the Maritime Transportation Security Act of 2002 (Pub. L. 107-295) (the Act) authorizes the Secretary of the Department in which the Coast Guard is operating to establish Area Maritime Security Committees for any port area of the United States. See 33 U.S.C. 1226; 46 U.S.C. 70112(a)(2); 33 CFR 103.205; Department of Homeland Security Delegation No. 0170.1. The Act exempts Area Maritime Security Committees from the Federal Advisory Committee Act (FACA), 5 U.S.C. App. (Pub. L. 92-463).

Dated: November 7, 2007.
J. H. Korn,
Captain, U.S. Coast Guard, Commander, 8th Coast Guard Dist. Acting.

[FR Doc. E7-22793 Filed 11-20-07; 8:45 am]

BILLING CODE 4910-15-P